FEDERAL RETIREMENT THRIFT INVESTMENT BOARD

Sunshine Act; Notice of Meeting

Agenda Federal Retirement Thrift Investment Board Member Meeting, 77 K Street NE., 10th Floor Board Meeting Room, Washington, DC 20002, January 23, 2017, In-Person, 8:30 a.m.

Open Session

1. Approval of the minutes for the December 19, 2016 Board Member Meeting

2. Monthly Reports

(a) Participant Activity Report

(b) Legislative Report

3. Quarterly Reports

(c) Investment Policy

(d) Budget Review

4. Annual Expense Ratio Review

5. Blended Retirement Update

Closed Session

Information covered under 5 U.S.C. 552b(c)(4) and (c)(9)(B).

Adjourn

CONTACT PERSON FOR MORE INFORMATION: Kimberly Weaver, Director, Office of External Affairs, (202) 942-1640.

Dated: January 17, 2017.
Megan Grumbine,
General Counsel, Federal Retirement Thrift Investment Board.

[FR Doc. 2017-01505 Filed 1-18-17; 11:15 am]

BILLING CODE 6760-01-P